DEPARTMENT OF AGRICULTURE

Forest Service

Ochoco National Forest, Paulina Ranger District; Oregon; Upper Beaver Creek Vegetation Management Project

AGENCY: Forest Service, USDA.

ACTION: Notice of intent to prepare an environmental impactstatement.

SUMMARY: The USDA Forest Service is proposing to conduct timber harvest, noncommercial thinning, and fuels reduction activities in the Upper Beaver Creek Watershed. The project area covers approximately 37,000 acres.

DATES: Comments concerning the scope of the analysis must be received by May 16, 2008. The draft environmental impact statement is expected by September 2008 and the final environmental impact statement is expected in March 2009.

ADDRESSES: Send written comments to Mike Lawrence, District Ranger, Paulina Ranger District, Ochoco National Forest, 7803 Beaver Creek Road, Paulina, Oregon 97751. Alternately, electronic comments can be sent to comments-pacificnorthwest-ochocopaulina@fs.fed.us.

FOR FURTHER INFORMATION CONTACT: Janis Bouma, Project Leader, at the address listed above.

SUPPLEMENTARY INFORMATION:

Purpose and Need for Action

The purpose and need for this proposal is to (1) Move vegetation seral/structural stages toward their historic range of variability and to increase large woody debris recruitment and hardwood plant composition within Riparian Habitat Conservation Areas (RHCAs); (2) Move Fire Regimes toward their historic range of variability by maintaining low intensity fire conditions and decreasing high intensity fire conditions across the project area; and (3) Provide wood products to contribute to the health of the local and regional economies, and provide opportunities for employment and income.

Proposed Action

The Paulina Ranger District is proposing to manage vegetation through commercial timber harvest, noncommercial thinning, and fuel reduction activities. The proposed action includes approximately 2,923 acres of commercial harvest and 8,337 acres of noncommercial thinning. Fuel reduction activities include approximately 11,259 acres of prescribed fire to reduce fuels from management activities in this project and past projects, 5,243 acres of fire to maintain low intensity fuel levels, and 1,341 acres of fire to reduce ladder and surface fuels in untreated vegetation areas. Approximately 2,500 acres of grapple piling would be completed. Construction of a shaded fuel break approximately 600 feet along each side of the Summit Trail (approximately 450 acres) is proposed in order to protect the historic value of the Summit Trail and to provide for future firefighter safety. Commercial harvest includes tractor, skyline, and helicopter logging systems. Areas identified as tractor logging are areas where heavy equipment, such as logging tractors/skidders, will be used to remove a commercial product. Approximately two miles of temporary roads would be constructed. No new roads would be constructed and roads that are reopened would be closed after harvest activities are complete.

Possible Alternatives

At this time, the Forest Service is considering at least three alternatives. The no action alternative is the baseline for comparison and will analyze the effects of natural processes along with ongoing activities such as road maintenance and recreation use. Ongoing activities, such as road maintenance, noxious weeds treatments, and recreational use, would continue. Access for public and administrative purposes would continue on the existing transportation system. Alternative 2, the proposed action, will analyze the effects of timber harvest, noncommercial thinning, and prescribed fire activities. A third alternative being considered at this time is similar to Alternative 2; however, it would analyze treatment of the maximum number of acres to meet the purpose and need while meeting Forest Plan standards and guidelines. The action alternatives will examine combinations and degrees of activities to meet the purpose of and need for action and concerns stated during the public scoping process.

Responsible Official

The responsible official for this project is Jeff Walter, Forest Supervisor, Ochoco National Forest, 3160 NE., Third Street, Prineville, Oregon 97754.

Nature of Decision To Be Made

The Forest Supervisor will decide whether to conduct timber harvest, noncommercial thinning, and prescribe fire treatments within the Upper Beaver Creek project area. The decision will be based on the information disclosed in the EIS, and the goals, objectives, and desired future conditions as stated in the Forest Plan as amended. The responsible official will consider significant issues, public comments, environmental consequences, and compliance with applicable laws, regulations, and policies in making his decision. The responsible official will also determine whether to amend the Forest Plan to allow: (1) Prescribed fire treatments in old growth areas and (2) moving designated old growth areas to areas more suited as old growth habitat. The rationale for the decision will be stated in the Record of Decision for the project.

Scoping Process

The Paulina Ranger District intends to scope for information by mailing letters to adjacent landowners, persons, and organizations interested or potentially affected by the proposed action. Meetings may be conducted with interested individuals and groups to further explain and clarify the proposal and project area resources and receive comments. This project will be included in the Ochoco National Forest Quarterly Schedule of Proposed Actions for the duration of the environmental analysis.

Preliminary Issues

The Paulina Ranger District has identified five preliminary issues related to the proposed action. They are: (1) Removal of trees would cause changes to connectivity corridors; (2) Proposed activities could cause changes to goshawk nest stands; (3) Proposed activities in Riparian Habitat Conservation Areas could increase sediment and cause a decline in water quality. Commercial harvest and noncommercial thinning could also cause a reduction in shade on streams and cause an increase in stream temperatures; (4) Equipment use during harvest activities and connected actions could change soil productivity; and (5) Prescribed fire treatments would cause changes to ground nesting habitat for migratory and sensitive land birds.

Comment Requested

This notice of intent is part of the scoping process that will guide the development of the environmental impact statement. The primary purpose of scoping is to gather public comments, issues, and concerns regarding the proposed action. Comments, issues, and concerns may be used to formulate alternatives. Comments are most helpful if they are as specific as possible and relate to the proposed action. Comments should include the name, address, and, if possible, telephone number of the commenter. Electronic comments must be submitted as part of the actual e-mail message, or as an attachment in plain text (.txt), Microsoft Word (.doc), rich text format (.rtf), or portable document format (.pdf). Comments received in response to this solicitation, including the names and addresses of those who comment, will be considered part of the public record and will be available for public inspection.

Early Notice of Importance of Public Participation in Subsequent Environmental Review

A draft environmental impact statement will be prepared and made available for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: April 8, 2008.
Jeff Walter,
Forest Supervisor, Ochoco National Forest.

[FR Doc. E8-7838 Filed 4-14-08; 8:45 am]

BILLING CODE 3410-11-M